AGENCY FOR INTERNATIONAL DEVELOPMENT

U.S. Agency for International Mandatory Declassification Review Address

AGENCY: U.S. Agency for International Development.

ACTION: Notice.

SUMMARY: Pursuant to the Information Security Oversight Offices Classified National Security Information Directive No. 1, this notice provides the U.S. Agency for International Developments address to which Mandatory Declassification Review requests may be sent. This notice benefits the public in advising them where to send such requests for declassification review.

FOR FURTHER INFORMATION CONTACT: Ms. Sylvia Lankford, 202-712-0879.

SUPPLEMENTARY INFORMATION: The following identifies the office to which mandatory declassification review requests should be addressed: Acting Chief, Information and Records Division (M/MS/IRD), Office of Management Services, U.S. Agency for International Development, Ronald Reagan Building, Room 207C, Washington, DC 20523-2700.

Dated: November 29, 2010.
Lynn P. Winston,
Acting Chief, Information and Records Division, Office of Management Services, Bureau for Management.

[FR Doc. 2010-30521 Filed 12-6-10; 8:45 am]

BILLING CODE 6116-01-M